DEPARTMENT OF LABOR

Employment and Training Administration

[TA-W-57,115, TA-W-57,115A]

Basf Corporation, Coatings Division, Southfield, MI, Including an Employee of Basf Corporation, Coatings Division, Southfield, MI, Located in Morganton, NC; Amended Notice of Certification Regarding Eligibility To Apply for Worker Adjustment Assistance

In accordance with section 223 of the Trade Act of 1974 (19 U.S.C. 2273) the Department of Labor issued a Certification Regarding Eligibility to Apply for Worker Adjustment Assistance on June 6, 2005, applicable to workers of BASF Corporation, Coatings Division, Southfield, Michigan. The notice was published in the Federal Register on June 28, 2005 (70 FR 37118).

At the request of the State agency, the Department reviewed the certification for workers of the subject firm. New information shows that a worker separation occurred involving an employee of the Southfield, Michigan facility of the Coatings Division of BASF Corporation located in Morganton, North Carolina. Mr. Clifton Becktel provided research and development support services for the production of automotive and industrial coatings for the automotive industry at the Southfield, Michigan location of the subject firm.

Based on these findings, the Department is amending this certification to include an employee of the Southfield, Michigan Pennsylvania facility of the Coatings Division of BASF Corporation located in Morganton, North Carolina.

The intent of the Department's certification is to include all workers of BASF Corporation, Coatings Division, Southfield, Michigan, who were adversely affected by a shift in production to Mexico and Canada.

The amended notice applicable to TA-W-57,115 is hereby issued as follows:

All workers of BASF Corporation, Coatings Division, Southfield, Michigan (TA-W-57,115), including an employee of BASF Corporation, Coatings Division, Southfield, Michigan located in Morganton, North Carolina (TA-W-57,115A), who became totally or partially separated from employment on or after April 26, 2004, through June 6, 2007, are eligible to apply for adjustment assistance under section 223 of the Trade Act of 1974.

Signed at Washington, DC this 4th day of August, 2005.
Richard Church,
Certifying Officer, Division of Trade Adjustment Assistance.

[FR Doc. E5-4393 Filed 8-11-05; 8:45 am]

BILLING CODE 4510-30-P